DEPARTMENT OF AGRICULTURE

Forest Service

North Fork Fire Salvage; Notice of Intent

AGENCY: Forest Service, USDA.

ACTION: Notice; intent to prepare an Environmental Impact Statement.

SUMMARY: The purpose of this notice is to inform the public that the Forest Service intends to prepare an environmental impact statement for the North Fork Fire Salvage project, Sierra National Forest, Madera County, California.

DATES: The public is asked to submit any issues regarding potential effects of the proposed action or alternatives by July 15, 2002.

ADDRESSES: Send written comments to David Martin, District Ranger, Bass Lake River Ranger District, P.O. 57003 Road 225, North Fork, California 93643.

FOR FURTHER INFORMATION CONTACT: Michael Price, Team Leader, at (559) 877-2218 ext. 3162, or e-mail mjprice@fs.fed.us.

SUPPLEMENTARY INFORMATION:

Background and Early Public Involvement

On Monday, August 20, 2001, the North Fork Fire started at 12:25 approximately 1 mile north of the town of North Fork. The fire proceeded to burn 4132 acres of the South Fork Bluffs threatening the town of North Fork and outlying communities, destroying two residential homes and approximately 1498 acres of coniferous forest stands. The Fire occurred in the area addressed by the Willow Creek Landscape Ecosystem Analysis, June 1995. On September 28, 2001, the Forest decided to commence an environmental analysis of proposed timber salvage harvest and the public was invited to present their comments or concerns. The Forest has decided to prepare an Environmental Impact Statement. No additional public meetings are anticipated.

Proposed Action

The proposed action is to salvage harvest and sell merchantable trees identified within the guidelines of the Sierra National Forest Land and Resource Management Plan, 1991, (SNF LRMP) as amended by the Sierra Nevada Forest Plan Amendment (SNF EIS), Record of Decision (ROD), Jan. 2001 (Framework). The proposal includes salvage harvest of dead timber, predominately by helicopter harvest system, on approximately 538 acres, and conventional ground tractor/skidder harvest on approximately 71 acres. Harvesting and follow-up treatments, such as activity fuels treatments and planting, will be consistent with SNF EIS ROD requirements for the Urban/Wildland Intermix Defense and Threat Zones. Planting will be done on a portion of the burned area to accelerate a return of these areas to native coniferous vegetation.

The purpose and need is defined and guided by the Sierra National Forest Land and Resource Management Plan (LRMP), as amended in January 2001 by the Sierra Nevada Forest Plan Amendment (SNFP) Final Environmental Impact Statement Record of Decision (ROD) and the Willow Creek Landscape Analysis Plan. The SNFP ROD directs the national forest to maintain or restore ecological sustainability to provide a sustainable flow of uses, values, products, and services from the land (ROD pg 7). Under the plan, an estimated 91 million board feet (MMBF) of salvage harvest may be produced from the 11 national forests annually (ROD-11). This project will contribute approximately 5 MMBF to these expectations.

The proposed activities are consistent with the Sierra National Forest LRMP, as amended, and the Willow Creek Landscape Ecosystem Analysis.

Preliminary Alternatives to the Proposed Action

To comply with NEPA, the Forest Service will evaluate alternatives to the proposed action within the EIS, including No Action and other alternatives responding to public comments. Each alternative will be rigorously explored and evaluated, or rationale will be given for eliminating an alternative from detailed study. A range of alternatives may be considered.

Responsible Official

The Responsible Deciding Official is James L. Boynton, Forest Supervisor, Sierra National Forest, 1600 Tollhouse Rd., Clovis, CA 93612.

Public Involvement

The public will be invited to participate in the scoping process, and review of the draft environmental impact statement (DEIS). Comments from the public and other agencies will be used in preparation of the DEIS. No public meetings are planned. The draft environmental impact statement is expected to be available for public review and comment in September 2002 and a final environmental impact statement in November 2002. The comment period on the draft environmental impact statement will be 45 days from the date the Environmental Protection Agency publishes the notice of availability in the Federal Register. It is very important that those interested in this proposed action participate at that time. To be most helpful, comments on the draft environmental impact statement should be as specific as possible and may address the adequacy of the statement or the merits of the alternatives discussed (see The Council on Environmental Quality Regulations for implementing the procedural provisions of the National Environmental Policy Act at 40 CFR 1503.3).

Comments received in response to this solicitation, including names and addresses of those who comment, will be considered part of the public record on this proposed action and will be available for public inspection. Comments submitted anonymously will be accepted and considered; however, those who submit anonymous comments will not have standing to appeal the subsequent decision under 36 CFR 215.

Additionally, pursuant to 7 CFR 1.27(d), any person may request the agency to withhold a submission from the public record by showing how the Freedom of Information (FOIA) permits such confidentiality. Persons requesting such confidentiality should be awarded that, under the FOIA, confidentiality may be granted in only very limited circumstances, such as to protect trade secrets. The Forest Service will inform the requester of the agency's decision regarding the request for confidentiality, and where the request is denied, the agency will return the submission and notify the requester that the comments may be resubmitted with or without name and address.

The Forest Service believes, at this early stage, it is important to give reviewers notice of several court rulings related to public participation in the environmental review process. First, reviewers of draft environmental impact statements must structure their participation in the environmental review of the proposal so that it is meaningful and alerts the agency to the reviewer's position and contentions. Vermont Yankee Nuclear Power Corp. v. NRDC, 435 U.S. 519,553 (1978). Also, environmental objections that could be raised at the draft environmental impact statement stage but that are not raised until after completion of the final environmental state may be viewed or dismissed by the courts. City of Angoon v. Hodel, 803 F.2d 1016, 1022 (9th Cir. 1986) and Wisconsin Heritages, Inc. v. Harris, 490F. Supp. 1334 (E.D. Wis 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: June 5, 2002.
James L. Boynton,
Forest Supervisor.

[FR Doc. 02-14898 Filed 6-12-02; 8:45 am]

BILLING CODE 3410-11-M